NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for Office of International Science and Engineering—PIRE: U.S.-East Africa Research and Education Partnership: Cassava Mosaic Disease—A Paradigm for the Evolution of Insect-Transmitted Plant Virus Pathosystems—Site Visit (10749).

Date and Time: July 11, 2019; 8:00 a.m.-9:00 p.m.; July 12, 2019; 9:00 a.m.-4:30 p.m.

Place: North Carolina State University, Raleigh, North Carolina 27695.

Type of Meeting: Part Open.

Contact Person: Cassandra Dudka, PIRE Program Manager; National Science Foundation, 2415 Eisenhower Avenue, Alexandria, VA 22314; Telephone 703/292-7250.

Purpose of Meeting: NSF site visit to conduct a review during year 3 of the five-year award period. To conduct an in-depth evaluation of performance, to assess progress towards goals, and to provide recommendations.

Agenda: PIRE Site Visit Agenda.

July 11, 2019—Hunt Library IEI 4105

8:00 a.m.-9:30 a.m.

Introductions

PIRE Rationale and Goals

Partnerships

Human Resource and Infrastructure Development

Institutional Support

9:30 a.m.-10:00 a.m.

Meeting with NCSU and CALS administration

10:00 a.m.-10:20 a.m.

NSF Executive Session/Break (CLOSED)

10:20 a.m.-12:00 p.m.

Research

12:00 p.m.-12:30 p.m.

NSF Executive Session (CLOSED)

12:30 p.m.-1:30 p.m.

Lunch—Discussion with Trainees

1:30 p.m.-3:00 p.m.

Training and International Experience

Outreach

Integrating Research and Education

Integrating Diversity

3:00 p.m.-3:30 p.m.

NSF Executive Session/Break (CLOSED)

3:30 p.m.-4:15 p.m.

Administration, Management, and Budget Plans

4:15 p.m.-5:00 p.m.

Summary

5:00 p.m.-6:00 p.m.

Executive Session/Break—Develop Issues for Clarification (CLOSED)

6:15 p.m.-6:30 p.m.

Critical Feedback Provided to PIs & Senior Investigators

7:00 p.m.-9:00 p.m.

NSF Executive Session/Working Dinner (CLOSED)

Committee organizes on its own at hotel.

July 12, 2019—Partners III, Room 202

9:00 a.m.-10:00 a.m.

Summary/PI Team Response to Critical Feedback (CLOSED)

10:00 a.m.-4:00 p.m.

Site Review Team Prepares Site Visit Report (CLOSED)

(Working Lunch Provided)

4:00 p.m.-4:30 p.m.

Presentation of Site Visit Report to Principal Investigator (CLOSED)

Reason for Closing: Topics to be discussed and evaluated during closed portions of the site review will include information of a proprietary or confidential nature, including technical information; and information on personnel. These matters are exempt under 5 U.S.C. 552b(c), (4) and (6) of the Government in the Sunshine Act.

Dated: June 6, 2019.
Crystal Robinson,
Committee Management Officer.

[FR Doc. 2019-12347 Filed 6-11-19; 8:45 am]

BILLING CODE 7555-01-P